DEPARTMENT OF DEFENSE

Defense Acquisition Regulations System

[Docket Number DARS-2016-0040; OMB Control Number 0704-0232]

Submission for OMB Review; Comment Request

ACTION: Notice.

SUMMARY: The Defense Acquisition Regulations System has submitted to OMB for clearance, the following proposal for collection of information under the provisions of the Paperwork Reduction Act.

DATES: Consideration will be given to all comments received by April 26, 2017.

SUPPLEMENTARY INFORMATION:

Title and OMB Number: Defense Federal Acquisition Regulations Supplement (DFARS) Subpart 215.4, Contract Pricing, and Related Clauses at DFARS 252.215; OMB Control Number 0704-0232.

Type of Request: Revision of currently approved collection.

Number of Respondents: 302.

Responses per Respondent: 1.4 (approximately).

Annual Responses: 427.

Average Burden per Response: 40.7 hours (approximately).

Annual Burden Hours: 17,400.

Needs and Uses: DFARS clause 252.215-7002, Cost Estimating Systems Requirements, includes the following information collection requirements, which are necessary to evaluate and monitor contractor cost estimating systems; however, the need for information collection decreases as contractor estimating systems improve and gain contracting officer approval:

(a) Paragraph (d)(1) requires the contractor to establish an adequate estimating system, disclose such estimating systems to the ACO, in writing;

(b) Paragraph (d)(3)(ii) requires the contractor to disclose significant changes to the cost estimating system to the ACO on a timely basis;

(c) Paragraph (e)(2) requires the contractor to respond within 30 days to the contracting officer's written initial determination that identifies significant deficiencies in the contractor's estimating system; and

(d) Paragraph (f) requires the contractor to respond within 45 days to the contracting officer's final determination of significant deficiencies, and either correct the significant deficiencies or submit an acceptable corrective action plan showing milestones and actions to eliminate the deficiencies.

DoD contracting officers use this information to determine if the contractor has an adequate system for generating cost estimates, which forecasts costs based on appropriate source information available at the time, and has the ability to monitor the correction of significant deficiencies.

Affected Public: Businesses or other for-profit and not-for profit institutions.

Frequency: On occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Mr. Frederick C. Licari.

Written requests for copies of the information collection proposal should be sent to Mr. Licari at: Information Collections Program, WHS/ESD Office of Information Management, 4800 Mark Center Drive, 3rd Floor, East Tower, Suite 03F09 Alexandria, VA 22350-3100.

Jennifer L. Hawes,
Editor, Defense Acquisition Regulations System.

[FR Doc. 2017-05986 Filed 3-24-17; 8:45 am]

BILLING CODE 5001-06-P